DEPARTMENT OF THE INTERIOR

National Park Service

Availability of Environmental Assessment for Proposed Construction and Operation of Telecommunications Facilities in John D. Rockefeller, Jr. Memorial Parkway, WY

AGENCY: National Park Service, Department of the Interior.

ACTION: Notice of availability of environmental assessment.

SUMMARY: Pursuant to the National Environmental Policy Act of 1969, the National Park Service announces the availability of an environmental assessment for proposed the construction and operation of a wireless communication facility on Steamboat Mountain in John D. Rockefeller, Jr. Memorial Parkway, WY. Steamboat Mountain is located at N. latitude 44-3-5, W. longitude 110-41-50. Union Telephone Company made an initial application to install the site in April, 1999. Public notice of the application was published in the Federal Register/Vol. 64. No. 86/Wednesday, May 5, 1999/Notices. JBR Environmental Consultants, Inc. prepared the assessment for the two companies for submittal to the National Park Service. The environmental assessment describes a no action alternative and two action alternatives. Union Telephone and CommNet Cellular, Inc.'s proposed action includes the installation of an underground power line to the site, two 8x18x9 wooden buildings, and a 70′ wooden tower, including various wireless communication devices, at the site. Under the proposal, the companies would bring all materials to the site via a 3,300 cleared route needed for the powerline. At this time, the National Park Service's preferred alternative would bring some of the materials to the site by helicopter. The assessment discloses the possible environmental impacts of all the alternatives. Persons wishing to receive a copy of the assessment may do so by contacting the Superintendent, Grand Teton National Park, P.O. Drawer 170, Moose, WY 83012, or by calling (307) 730-3410.

DATES: Written comments on the environmental assessment must be postmarked or hand delivered by close of business June 30, 2000. Please address comments to the Superintendent at the above address. Comments will become part of the official record. Names and addresses of those who make comments will become part of the public record and cannot be withheld unless anonymity is specifically requested of and approved by the National Park Service.

FOR FURTHER INFORMATION: Contact the Superintendent, Grand Teton National Park, at the above address.

Dated: May 12, 2000.
Jack Neckels,
Superintendent, Grand Teton National Park.

[FR Doc. 00-13031 Filed 5-23-00; 8:45 am]

BILLING CODE 4310-70-P